DEPARTMENT OF TRANSPORTATION

Federal Railroad Administration

Notice of Application for Approval of Discontinuance or Modification of a Railroad Signal System or Relief From Requirements

Pursuant to Title 49 Code of Federal Regulations (CFR) Part 235 and 49 U.S.C. 20502(a), the following railroads have petitioned the Federal Railroad Administration (FRA) seeking approval for the discontinuance or modification of the signal system or relief from the requirements of 49 CFR part 236 as detailed below.

Docket No.: FRA-2001-9841

Applicants: NJ Transit Rail Operations, Inc., Mr. William R. Knapp, Vice President and General Manager-Rail, One Penn Plaza East, Newark, New Jersey 07105-2246; Norfolk Southern Corporation, Mr. Tony L. Ingram, Vice President—Transportation, 185 Spring Street, SW, Atlanta, Georgia 30303.

NJ Transit Rail Operations, Incorporated (NJ TRANSIT) and Norfolk Southern Corporation (NS) seek relief from the requirements of Part 236 Section 236.566, of the Rules, Standards and Instructions, to the extent that NJ Transit and NS be permitted to operate non-equipped freight and work train locomotives in Advanced Speed Enforcement System (ASES) train control territory.

NJ Transit is installing ASES to enhance safety on its entire property beginning with the Pascack Valley Line, on the single main track from Pascack Jct., milepost 7.7 to Woodbine Yard, milepost 31.1, on the Hoboken Division.

Applicant's justification for relief: An initial incremental installation of ASES is planned for passenger trains only, while software development, verification, and validation proceed on the more complex functionality required for full implementation of freight and work train modes, as well as, interoperability with Amtrak's Advanced Civil Speed Enforcement System which is currently being installed on Amtrak's Northeast Corridor. All trains operating in the territory where Cab Signal System rules are in effect will continue to be equipped with operational cab signals. Passenger trains will be equipped with the first-generation ASES. Freight and work trains operating rules will not be altered; they will not be permitted on the main track during hours when passenger operations are scheduled.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on June 21, 2001.
Grady C. Cothen, Jr.,
Deputy Associate Administrator for Safety Standards and Program Development.

[FR Doc. 01-16280 Filed 6-27-01; 8:45 am]

BILLING CODE 4910-06-P